DEPARTMENT OF LABOR

Employment and Training Administration

[TA-W-56,435]

Nagle Industries, Including Leased Workers of Staff Partners and Personnel Management, Inc., Cumberland City, TN; Amended Certification Regarding Eligibility To Apply for Worker Adjustment Assistance and Alternative Trade Adjustment Assistance

In accordance with section 223 of the Trade Act of 1974 (19 U.S.C. 2273), and section 246 of the Trade Act of 1974 (26 U.S.C. 2813), as amended, the Department of Labor issued a Certification of Eligibility to Apply for Worker Adjustment Assistance and Alternative Trade Adjustment Assistance on February 1, 2005, applicable to workers of Nagle Industries, Cumberland City, Tennessee. The notice was published in the Federal Register on March 9, 2005 (70 FR 11705).

At the request of the State agency, the Department reviewed the certification for workers of the subject firm. The workers were engaged in the production of automotive cables.

New information shows that leased workers of Staff Partners and Personnel Management, Inc. were employed at the Cumberland City, Tennessee location of Nagle Industries.

Based on these findings, the Department is amending this certification to include leased workers of Staff Partners and Personnel Management, Inc. working at Nagle Industries, Cumberland City, Tennessee.

The intent of the Department's certification is to include all workers employed at Nagle Industries, Cumberland City, Tennessee who were adversely affected by a shift in production to Mexico.

The amended notice applicable to TA-W-56,435 is hereby issued as follows:

All workers of Nagle Industries, including leased workers of Staff Partners and Personnel Management, Inc., Cumberland City, Tennessee, who became totally or partially separated from employment on or after January 28, 2004, through February 1, 2007, are eligible to apply for adjustment assistance under section 223 of the Trade Act of 1974, and are also eligible to apply for alternative trade adjustment assistance under section 246 of the Trade Act of 1974.

Signed in Washington, DC, this 4th day of August, 2005.
Richard Church,
Certifying Officer, Division of Trade Adjustment Assistance.

[FR Doc. E5-4391 Filed 8-11-05; 8:45 am]

BILLING CODE 4510-30-P